DEPARTMENT OF THE INTERIOR

Bureau of Land Management

[LLCO956000 L14400000.BJ0000]

Notice of Filing of Plats of Survey; Colorado.

AGENCY: Bureau of Land Management, Interior.

ACTION: Notice of filing of plats of survey; Colorado.

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on June 4, 2015.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat and field notes of the dependent resurvey and survey in Township 46 North, Range 12 East, New Mexico Principal Meridian, Colorado, were accepted on March 18, 2015.

The plat incorporating the field notes of the corrective dependent resurvey in Township 1 South, Range 78 West, Sixth Principal Meridian, Colorado, was accepted on March 20, 2015.

The plat and field notes of the metes-and-bounds survey in partially surveyed Township 41 North, Range 9 West, New Mexico Principal Meridian, Colorado, were accepted on April 9, 2015.

The plat, in 2 sheets, and field notes of the dependent resurvey and survey in Township 50 North, Range 14 West, New Mexico Principal Meridian, Colorado, were accepted on April 15, 2015.

Randy Bloom,
Chief Cadastral Surveyor for Colorado.

[FR Doc. 2015-10463 Filed 5-4-15; 8:45 am]

BILLING CODE 4310-JB-P